DEPARTMENT OF EDUCATION

National Advisory Committee on Institutional Quality and Integrity (NACIQI) Teleconference

AGENCY: National Advisory Committee on Institutional Quality and Integrity, Office of Postsecondary Education, U.S. Department of Education.

ADDRESSES: U.S. Department of Education, Office of Postsecondary Education, 1990 K Street, NW., Room 7122, Washington, DC 20006.

ACTION: Notice of open teleconference meeting of the National Advisory Committee on Institutional Quality and Integrity (NACIQI) and information related to members of the public making third-party oral comments at the meeting.

SUMMARY: This notice sets forth the schedule and proposed agenda items for the upcoming teleconference meeting of the National Advisory Committee on Institutional Quality and Integrity (NACIQI), which is scheduled for November 8, 2010, and provides information for members of the public wishing to attend the meeting and/or make oral comments during the meeting. The notice of this teleconference meeting is required under Section 10(a)(2) of the Federal Advisory Committee Act (FACA) and Section 114(d)(1)(B) of the Higher Education Act (HEA).

The NACIQI teleconference meeting will be held on Monday, November 8, 2010, beginning at 4 p.m. and ending as late as 5:30 p.m., Eastern Standard Time. The proposed agenda for this teleconference meeting is to elect a chair and vice-chair, and conduct other administrative business related to meeting planning and procedures.

Space for the teleconference meeting is limited, and you are encouraged to register early if you plan to attend. To register to attend the teleconference meeting and not make any oral comments, e-mail the Accreditation Division staff at aslrecordsmanager@ed.gov and enter “Registration for NACIQI Teleconference Meeting” in the subject line of the e-mail message. In the body of the e-mail message, please include your name, title, affiliation, mailing address, e-mail address, Web site (if available), and telephone and fax numbers. To register to attend the teleconference meeting and request to make oral comments during the meeting, e-mail the Accreditation Division staff at aslrecordsmanager@ed.gov and enter “Registration for NACIQI Teleconference Meeting and Request To Make Oral Comments” in the subject line of the e-mail message. In the body of the message, please include your name, title, affiliation, mailing address, e-mail address, and Web site (if available), and telephone and fax numbers, and provide a brief explanation of no more than five sentences that summarizes your anticipated comments. The deadline for the teleconference meeting registration is Monday, November 1, 2010.

A total of ten minutes will be allotted for public comment. Only the first ten commenters who respond in accordance with this notice as reflected in the time and date of e-mail receipt will be assured an opportunity to speak, and each commenter will be allotted no more than one minute. The Department will inform any requesters not selected to speak in advance of the meeting.

Individuals who will need accommodations for a disability in order to attend the teleconference meeting should contact Cathy Sheffield at (202) 219-7011 or e-mail at aslrecordsmanager@ed.gov no later than Monday, November 1, 2010. The teleconference site is accessible to individuals with disabilities.

NACIQI'S Statutory Authority and Functions: The NACIQI is established under Section 114 of the Higher Education Act (HEA), as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory functions relating to accreditation and institutional eligibility that the Secretary may prescribe.

Access to Records of the Teleconference Meeting: The Department will record the teleconference meeting and post the official report of the teleconference meeting on the NACIQI Web site shortly after the meeting. Pursuant to the FACA, the public may also inspect the materials at 1990 K Street, NW., Washington, DC, by e-mailing the aslrecordsmanager@ed.gov or by calling (202) 219-7067 to schedule an appointment.

FOR FURTHER INFORMATION CONTACT: Melissa Lewis, Executive Director, NACIQI, U.S. Department of Education, Room 8060, 1990 K Street, NW., Washington, DC 20006. Telephone: (202) 219-7011 or e-mail: Melissa.Lewis@ed.gov. Individuals who use a telecommunications device for the deaf (TDD) may call the Federal Information Relay Service at 1-800-877-8339 between 8:00 a.m. and 8:00 p.m., Eastern Standard Time, Monday through Friday.

Electronic Access to This Document: You may view this document, as well as all other Department of Education documents published in the Federal Register, in text or Adobe Portable Document Format (PDF), on the Internet at the following site: http://www.ed.gov/news/fedregister. To use PDF, you must have Adobe Acrobat Reader, which is available free at this site. If you have questions about using PDF, call the U.S. Government Printing Office (GPO), toll free, at 1-866-512-1830; or in the Washington, DC area at (202) 512-0000.

Note: The official version of this document is the document published in the Federal Register. Free Internet access to the official edition of the Federal Register and the Code of Federal Regulations is available on GPO Access at: http://www.gpoaccess.gov/nara/index.html.

Eduardo M. Ochoa,
Assistant Secretary for Postsecondary Education.

[FR Doc. 2010-25313 Filed 10-6-10; 8:45 am]

BILLING CODE 4000-01-P